DEPARTMENT OF HEALTH AND HUMAN SERVICES

Office of the Assistant Secretary for Financial Resources, Office of Grants and Acquisition Policy and Accountability, Division of Acquisition; Public Availability of the Department of Health and Human Services FY 2013 Service Contract Inventory

AGENCY: Department of Health and Human Services.

ACTION: Notice of Public Availability of FY 2013 Service Contract Inventories.

SUMMARY: In accordance with Section 743 of Division C of the Consolidated Appropriations Act of 2010 (Pub. L. 111-117), Department of Health and Human Services (HHS) is publishing this notice to advise the public of the availability of its FY 2013 Service Contract Inventory. This inventory provides information on service contract actions over $25,000 that were made in FY 2013. The information is organized by function to show how contracted resources are distributed throughout the agency. The inventory has been developed in accordance with guidance issued on November 5, 2010 and December 19, 2011 by the Office of Management and Budget's Office of Federal Procurement Policy (OFPP). OFPP's guidance is available at http://www.whitehouse.gov/sites/default/files/omb/procurement/memo/service-contract-inventories-guidance-11052010.pdf. HHS has posted its inventory and a summary of the inventory on the HHS homepage at the following link: http://www.hhs.gov/grants/servicecontracts.

FOR FURTHER INFORMATION CONTACT: Questions regarding the service contract inventory should be directed to Lori Sakalos, Director in the HHS/Office of the Secretary, Assistant Secretary for Financial Resources, Office of Grants and Acquisition Policy and Accountability, Office of Acquisition Policy at 202-690-6361 or Lori.Sakalos@hhs.gov.

Dated: June 13, 2014.
Angela Billups,
Associate Deputy Assistant Secretary for Acquisition, Senior Procurement Executive, Assistant Secretary for Financial Resources, Office of the Secretary.

[FR Doc. 2014-14434 Filed 6-19-14; 8:45 am]

BILLING CODE 4150-24-P